DEPARTMENT OF COMMERCE

National Oceanic and Atmospheric Administration

50 CFR Part 648

[Docket No. 111220786-1781-01]

RIN 0648-XE241

Fisheries of the Northeastern United States; Summer Flounder Fishery; Commercial Quota Available for the Commonwealth of Massachusetts

AGENCY: National Marine Fisheries Service (NMFS), National Oceanic and Atmospheric Administration (NOAA), Commerce.

ACTION: Temporary rule.

SUMMARY: NMFS announces that the 2015 summer flounder commercial fishery within the Commonwealth of Massachusetts is reopening to allow permitted vessels to fully harvest remaining commercial summer flounder quota as of October 12, 2015. Regulations governing the summer flounder fishery require publication of this rule to advise Massachusetts that quota remains available to be landed, and to inform Federal vessel and dealer permit holders that Federal commercial summer flounder quota is available for landing in Massachusetts.

DATES: Effective 0001 hours October 12, 2015, through December 31, 2015.

FOR FURTHER INFORMATION CONTACT: Reid Lichwell, (978) 281-9112, or Reid.Lichwell@noaa.gov.

SUPPLEMENTARY INFORMATION: Regulations governing the summer flounder fishery are found at 50 CFR part 648. The regulations require annual specification of a commercial quota that is apportioned on a percentage basis among the coastal states from Maine through North Carolina. The process to set the annual commercial quota and the percent allocated to each state is described in § 648.103(b).

The total commercial quota for summer flounder for the 2015 fishing year is 11,069,410 lb (5,020,999 kg) (79 FR 78311, December 30, 2014). The percent allocated to vessels landing summer flounder in Massachusetts is 6.82046 percent, resulting in a commercial quota of 754,985 lb (342,455 kg). The 2015 Massachusetts allocation was adjusted to 760,785 lb (340,165 kg) to reflect the 2014 quota overages and the transfer of quota from other states. On September 17, 2015, NMFS closed the 2015 commercial summer flounder fishery in Massachusetts based on up-to-date catch information. Analysis after the closure indicates that 16,294 lb (7,390 kg) of the760,785 lb (340,165 kg) of Massachusetts commercial summer flounder quota remains unharvested. Therefore, we are reopening the Federal fishery concurrent with the Massachusetts action to open state waters to allow for full utilization of the 2015 Massachusetts commercial summer flounder quota.

The Administrator, Northeast Region, NMFS (Regional Administrator), has determined that there is still commercial summer flounder quota available for harvest in Massachusetts. NMFS is required to publish notification in the Federal Register advising and notifying commercial vessels and dealer permit holders that, effective upon a specific date, the commercial fishery will re-open.

Therefore, effective 0001 hours October 12, 2015, vessels holding summer flounder commercial Federal fisheries permits can again land summer flounder in Massachusetts until the commercial state quota is fully harvested. Effective 0001 hours October 12, 2015, federally permitted dealers can also purchase summer flounder from federally permitted vessels that land in Massachusetts until the commercial state quota is fully harvested.

Classification

This action is required by 50 CFR part 648 and is exempt from review under Executive Order 12866.

The Assistant Administrator for Fisheries, NOAA (AA), finds good cause pursuant to 5 U.S.C. 553(b)(B) to waive prior notice and the opportunity for public comment because it would be contrary to the public interest. This action reopens the summer flounder fishery for Massachusetts until the state commercial summer flounder quota is fully harvested, under current regulations. If implementation of this reopening were delayed to solicit prior public comment, the quota for this fishing year would not be fully harvested, thereby undermining the conservation objectives of the Summer Flounder Fishery Management Plan. The AA further finds, pursuant to 5 U.S.C. 553(d)(3), good cause to waive the 30-day delayed effectiveness period for the reason stated above.

Authority: 16 U.S.C. 1801 et seq.

Dated: October 8, 2015.
Emily H. Menashes,
Acting Director, Office of Sustainable Fisheries, National Marine Fisheries Service.

[FR Doc. 2015-26227 Filed 10-9-15; 4:15 pm]

BILLING CODE 3510-22-P